DEPARTMENT OF ENERGY

Federal Energy Regulatory Commission

[Docket No. CP03-300-000]

Columbia Gas Transmission Corporation; Notice of Filing

May 23, 2003.

Take notice that on May 20, 2003, Columbia Gas Transmission Corporation (Columbia), filed with the Federal Energy Regulatory Commission (Commission) an abbreviated application pursuant to the Natural Gas Act (NGA) to abandon certain natural gas storage facilities in Columbia's Laurel Storage Field.

Specifically, Columbia requests to abandon a Segment of its Line SR-556 consisting of 1.3 miles of 12-inch pipeline in Hocking County, Ohio, in Columbia's Laurel Storage Field. This segment of line was originally scheduled for replacement in 2002 due to age and condition. However, Columbia has determined that this segment could be eliminated and a more efficient storage pipeline network created by redirecting gas flow from the only storage well connected to it. Columbia explains that a short crossover line was built in 2002 to connect this well to Line SR-553 under Columbia's blanket authority. Columbia adds that the 1.3 mile segment of Line SR-556 has been kept in idle service pending approval of this application. Columbia states that there will be no changes in deliverability or annual turnover of the Laurel Storage Field resulting from this requested abandonment.

The application is on file with the Commission and open for public inspection. The filing is available for review at the Commission in the Public Reference Room or may be viewed on the Commission's Web site at http://www.ferc.gov using the “FERRIS” link. Enter the docket number excluding the last three digits in the docket number field to access the document. For assistance, please contact FERC Online Support at FERCOnlineSupport@ferc.gov or toll free at (866) 208-3676, or for TTY, contact (202) 502-8659.

Any questions regarding this application may be directed to Frederic J. George, Senior Attorney, Columbia Gas Transmission Corporation, P.O. Box 1273, Charleston, West Virginia, 25325-1273 at (304) 357-2359, fax (304) 357-3206.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see 18 CFR 385.2001(a)(1)(iii) and the instructions on the Commission's Web site under the “e-Filing” link. The Commission strongly encourages electronic filings.

Comment Date: June 13, 2003.

Magalie R. Salas,
Secretary.

[FR Doc. 03-13615 Filed 5-30-03; 8:45 am]

BILLING CODE 6717-01-P